FEDERAL TRADE COMMISSION

Granting of Request for Early Termination of the Waiting Period Under the Premerger Notification Rules

Section 7A of the Clayton Act, 15 U.S.C. 18a, as added by Title II of the Hart-ScottRodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
September 1, 2014 thru September 30, 2014
09/02/2014
20141361 | G | AK Steel Holding Corporation; Alexey Mordashov; AK Steel Holding Corporation.
20141362 | G | Steel Dynamics, Inc.; Alexey Mordashov; Steel Dynamics, Inc.
20141362 | G | Trian SPV VIII, L.P.; E.I. du Pont de Nemours and Company; Trian SPV VIII, L.P.
20141377 | G | Trian Partners, L.P.; E.I. du Pont de Nemours & Company; Trian Partners, L.P.
20141378 | G | Trian Star Trust; E.I. du Pont de Nemours & Company; Trian Star Trust.
20141411 | G | ABRY Partners VII, L.P.: KORE Wireless Group Inc.; ABRY Partners VII, L.P.
20141439 | G | FR XII Charlie AIV, L.P.; PDC Energy, Inc.: FR XII Charlie AIV, LP.
20141444 | G | Wind Point Partners VII-A, L.P.; Caroline Hunt Trust Estate; Wind Point Partners VII-A, L.P.
20141446 | G | Boat NP Newco, Inc.; Journal Communications, Inc.; Boat NP Newco, Inc.
20141447 | G | The E.W. Scripps Company; Journal Communications, Inc.: The E.W. Scripps Company.
20141451 | G | Tiptree Financial Partners, L.P.; Fortegra Financial Corporation; Tiptree Financial Partners, L.P.
20141454 | G | One Equity Partners Secondary Fund, L.P.; JPMorgan Chase & Co.; One Equity Partners Secondary Fund, L.P.
20141458 | G | FMI Associates, L.L.C.; Corsicana Bedding, Inc.; FMI Associates, L.L.C.
20141459 | G | Caxton Global Investments Limited; Fortune Brands Home and Security, Inc.; Caxton Global Investments Limited.
20141461 | G | Natural Resource Partners L.P.; Trilantic Capital Partners IV L.P.; Natural Resource Partners L.P.
20141471 | G | Rhone Offshore Partners IV L.P.: Elizabeth Arden, Inc.; Rhone Offshore Partners IV L.P.
09/03/2014
20141415 | G | Thema Bravo Fund XI, L.P.; SailPoint Technologies, Inc.; Thoma Bravo Fund XI, L.P.
20141418 | G | Liberty Interactive Corporation; FTD Companies, Inc.; Liberty Interactive Corporation.
20141419 | G | FTD Companies, Inc.; Liberty Interactive Corporation: FTD Companies, Inc.
20141440 | G | FR XII Charlie AIV, L.P.: Lime Rock Partners V.L.P.: FR XII Charlie AIV, L.P.
20141462 | G | Telstra Corporation Limited; Ooyala, Inc.; Telstra Corporation Limited.
20141464 | G | PetSmart, Inc.: Pet360, Inc.; PetSmart, Inc.
09/04/2014
20141423 | G | Adage Capital Partners, L.P.; HeartWare International, Inc. Adage Capital Partners, L.P.
20141452 | G | Shire plc; AbbVie Inc.; Shire plc.
20141453 | G | AbbVie Inc.; Shire plc; AbbVie Inc.
09/05/2014
20141222 | G | Level 3 Communications, Inc.; tw telecom inc. Level 3 Communications, Inc.
20141445 | G | TA XI L.P.; Idera, Inc.: TA XI L.P.
09/08/2014
20141448 | G | Carl C. Icahn; Hertz Global Holdings, Inc.; Carl C. Icahn.
20141450 | G | Post Holdings, Inc.; ABC Peanut Butter, LLC; Post Holdings. Inc.
20141470 | G | Kainos Capital Partners. LP; Blue Point Capital Partners II, L.P.; Kainos Capital Partners, LP.
20141473 | G | Special Purchase Company, a to-be-formed Korean corporation; Hyundai Logistics Co., Ltd.; Special Purchase Company, a to-be-formed Korean corporation.
20141474 | G | MedAssets, Inc.; Michael A. Sachs; MedAssets, Inc.
20141475 | G | Ultra Petroleum Corp.; Royal Dutch Shell plc; Ultra Petroleum Corp.
20141478 | G | Mercury New Holdco Inc.; Sinclair Broadcast Group, Inc.; Mercury New Holdco Inc.
20141479 | G | Buckeye Partners, L.P.; Claude Dauphin; Buckeye Partners, L.P.
20141481 | G | Connexus Credit Union; Endura Financial Federal Credit Union; Connexus Credit Union.
20141486 | G | Khosla Ventures, II, LP; AliphCom; Khosla Ventures, II, LP.
20141489 | G | John C. Malone; Liberty Global plc; John C. Malone.
20141491 | G | WA. Baxters & Sons (Holdings) Limited; DDJ Capital Management, LLC; W.A. Baxters & Sons (Holdings) Limited.
20141497 | G | dievini Hopp BioTech holding GmbH & Co. KG; LTS Lohmann Therapie-Systeme AG; dievini Hopp BioTech holding GmbH & Co. KG.
09/09/2014
20141490 | G | Oak Hill Capital Partners III, L.P. Maple Hill Holding Co Oak Hill Capital Partners III, L.P.
09/10/2014
20141468 | G | CCP IX LP No. 1 Vista Equity Partners Fund III, L.P.; CCP IX LP No. I.
09/11/2014
20141466 | G | John A. Thaler; The Madison Square Garden Company; John A. Thaler.
20141467 | G | JAT Capital Offshore Fund, Ltd.; The Madison Square Garden Company: JAT Capital Offshore Fund, Ltd.
20141480 | G | Republic Services, Inc.; Rainbow Disposal Co., Inc.; Republic Services, Inc.
09/12/2014
20141421 | G | NRG Energy, Inc.; Goal Zero Holdings, LLC NRG Energy, Inc.
20141424 | G | Carl C. Icahn; Gannett Co., Inc.; Carl C. Icahn.
20141477 | G | Senator Global Opportunity Offshore Fund Ltd.; Salix Pharmaceuticals, Ltd.; Senator Global Opportunity Offshore Fund Ltd.
20141498 | G | Amazon.com, Inc. Twitch Interactive, Inc.; Amazon.com. Inc.
20141499 | G | ERM Worldwide Limited; Stone Arch Capital, L.P.; ERM Worldwide Limited.
20141502 | G | Audax Private Equity Fund IV, L.P.; Sentinel Capital Partners IV, L.P. Audax Private Equity Fund IV, L.P.
20141508 | G | Genstar Capital Partners VI, L.P.; Archibald Cox, Jr.; Genstar Capital Partners VI, L.P.
20141511 | G | Genstar Capital Partners VI, L.P.; Construction Software Technologies, Inc.; Genstar Capital Partners VI, L.P.
09/15/2014
20141517 | G | Mitsui & Co., Ltd El. du Pont de Nemours & Company: Mitsui & Co., Ltd.
09/16/2014
20141501 | G | Froedtert Health, Inc.; Ascension Health Alliance; Froedtert Health, Inc.
20141503 | G | Skilled HealthCare Group, Inc; FC-GEN Operations Investment, LLC; Skilled HealthCare Group, Inc.
20141505 | G | Blackbaud, Inc.; VFF I AIV I, L.P.; Blackbaud, Inc.
20141509 | G | NRG Energy, Inc.; Pure Energies Group Inc.; NRG Energy, Inc.
20141510 | G | Fidelity National Information Services, Inc.; Clear2Pay N.V.; Fidelity National Information Services, Inc.
20141515 | G | Clearlake Capital Partners III, LP: Gores Capital Partners III. L.P. Clearlalce Capital Partners III, LP.
20141518 | G | The Veritas Capital Fund IV. L.P.; BT Software Holding Group, Inc.; The Veritas Capital Fund IV, L.P.
20141522 | G | Quad-C Partners VIII, L.P.; WaHoBo, LLC Quad-C Partners VIII, L.P.
09/17/2014
20141438 | G | Cemer Corporation; Siemens Aktiengesellschaft; Cemer Corporation.
20141469 | G | John C. Malone; Discovery Communications, Inc. John C. Malone.
20141504 | G | Amphenol Corporation; The Resolute Fund II, L.P.; Amphenol Corporation.
20141514 | G | AVG Technologies NV.; WaveMarket, Inc.; AVG Technologies N.V.
09/18/2014
20141495 | G | Pershing Square Holdings, Ltd. Air Products and Chemicals. Inc.; Pershing Square Holdings, Ltd.
09/19/2014
20141525 | G | AutoZone. Inc.; Dr. Karl Gaertner; AutoZone, Inc.
20141531 | G | Loews Corporation; Chevron Corporation Loews Corporation.
20141532 | G | Crown Finance Foundation: Windjammer Senior Equity Fund III. L.P. Crown Finance Foundation.
20141533 | G | Michael S. Smith: ZHA FLNG, LLC: Michael S. Smith.
20141534 | G | Lexington Capital Partners VIII, L.P.: Citigroup Inc.; Lexington Capital Partners VIII, L.P.
20141539 | G | Sinclair Broadcast Group, Inc.; James E. Rogers Trust; Sinclair Broadcast Group, Inc.
20141540 | G | Calpine Corporation; Exelon Corporation; Calpine Corporation.
20141542 | G | Arthur T. Demoulas Demoulas Super Markets, Inc.: Arthur T. Demoulas.
20141543 | G | Frances Irene Demoulas; Demoulas Super Markets, Inc.: Frances Irene Demoulas.
20141545 | G | TAD Family Trust Demoulas Super Markets, Inc.; TAD Family Trust.
20141546 | G | Caren L. Demoulas Demoulas Super Markets, Inc.; Caren L. Demoulas.
20141547 | G | Glorianne Demoulas Demoulas Super Markets, Inc.; Glorianne Demoulas.
20141552 | G | Berkshire Fund VIII, L.P.; Access Information Holdings, LLC; Berkshire Fund VIII, L.P.
20141556 | G | 3i Group plc; Audax Private Equity Fund II, L.P.; 3i Group plc.
20141562 | G | Concordia Healthcare Corp.; Eisai Co., Ltd.; Concordia Healthcare Corp.
20141563 | G | Hicks, Muse, Tate & Furst Equity Fund III, L.P.; Mercury New Holdco Inc. Hicks, Muse, Tate & Furst Equity Fund III, L.P.
20141564 | G | Hicks, Muse, Tate & Furst Equity Fund IV, L.P.Mercury New Holdco Inc. Hicks, Muse, Tate & Furst Equity Fund IV, L.P.
09/22/2014
20141472 | G | JLL Patheon Co-Investment Fund, L.P. (Cayman); Gallus BioPharmaceuticals, LLC JLL Patheon Co. Investment Fund, L.P. (Cayman).
20141519 | G | 1-800-FLOWERS.COM, Inc.; Harry & David Holdings, Inc. 1-800-FLOWERS.COM, Inc.
09/23/2014
20141506 | G | Behnnan Capital IV, L.P.; Nautic Partners VI, LP.; Behrman Capital IV, L.P.
20141512 | G | Court Square Capital Partners III, L.P.; Pike Corporation; Court Square Capital Partners III, L.P.
20141561 | G | Intercontinental Exchange, Inc.; Super Derivatives. Inc.; Intercontinental Exchange, Inc.
09/24/2014
20141496 | G | Pershing Square Holdings, Ltd.; Canadian Pacific Railway Limited; Pershing Square Holdings, Ltd.
20141572 | G | Alliance Data Systems Corporation; Conversant, Inc.; Alliance Data Systems Corporation.
20141570 | G | Solvay, S.A. Chevron Corporation; Solvay, S A.
20141571 | G | Solvay S.A.; Phillips 66: Solvay S.A.
20141577 | G | Murata Manufacturing Co., Ltd. Peregrine Semiconductor Corporation; Murata Manufacturing Co., Ltd.
20141581 | G | 3G Special Situations Fund II, L.P.; Tim Hortons Inc.; 3G Special Situations Fund II, L.P.
20141582 | G | Tim Hortons Inc.: 3G Special Situations Fund II, L.P.; Tim Hortons Inc.
20141583 | G | United Stationers Inc.; Mr. Richard Bell; United Stationers Inc.
20141586 | G | KKR North America Fund XI, L.P.; Flexpoint Fund II. L.P.; KKR North America Fund XI, L.P.
20141595 | G | Terrence M. Pegula; Ralph C. Wilson, Jr. Irrevocable Trust UAD 3/25114; Terrence M. Pegula.
20141601 | G | Gryphon Partners 3.5, L.P.; Orchid Underwriters Agency, Inc. Gryphon Partners 3.5, L.P.
20141602 | G | Global Cash Access Holdings, Inc. Multimedia Games Holding Company, Inc.; Global Cash Access Holdings, Inc.
20141603 | G | EnerVest Energy Institutional Fund XIII-C, L.P.; Loews Corporation EnerVest Energy Institutional Fund XIII-C, L.P.
20141604 | G | Roger S. Penske; ATC Holder), LLC: Roger S. Penske.
20141605 | G | Sentinel Capital Partners V. L.P.; Huntsman Gay Capital Partners Fund, L.P.Sentinel Capital Partners V, L.P.
20141608 | G | WSP Global Inc.; Balfour Beatty plc; WSP Global Inc.
20141611 | G | Hellman & Friedman Capital Partners VII, L.P.; Berkshire Fund VII, L.P.; Hellman & Friedman Capital Partners VII. L.P.
20141613 | G | GI Partners Fund IV LP.; KKBS Group Holdings LLC GI Partners Fund IV LR.
09/30/2014
20141589 | G | EQT V (No. 1) Limited Partnership; Atwood Holdings LLC; EQT V (No. I) Limited Partnership.
20141616 | G | Nucor Corporation; ArcelorMittal; Nucor Corporation.

FOR FURTHER INFORMATION CONTACT:

Renee Chapman, Contact Representative, or Theresa Kingsberry, Legal Assistant, Federal Trade Commission, Premerger Notification, Office Bureau of Competition, Room Cc-5301, Washington, DC 20024, (202) 326-3100.

By direction of the Commission.
Donald S. Clark,
Secretary.

[FR Doc. 2014-24014 Filed 10-8-14; 8:45 am]

BILLING CODE 6750-01-M